DEPARTMENT OF LABOR

Employment and Training Administration

[TA-W-70,044]

Croscill Acquisition, LLC, Currently Known as Croscill Home, LLC, Plant No. 8, Oxford, NC; Amended Certification Regarding Eligibility To Apply for Worker Adjustment Assistance

In accordance with Section 223 of the Trade Act of 1974, as amended (“Act”), 19 U.S.C. 2273, the Department of Labor issued a Certification of Eligibility to Apply for Worker Adjustment Assistance on August 25, 2009, applicable to workers of Croscill Acquisition, LLC, formerly doing business as Royal Home Fashions, a subsidiary of Croscill, Inc., Plant No. 8, Oxford, North Carolina. The notice was published in the Federal Register on November 5, 2009 (74 FR 57342). The workers are engaged in the supply of warehousing and distribution services of household products, and are separately identifiable from workers producing samples at the same location.

At the request of the State Agency, the Department reviewed the certification for workers of the subject firm.

New information shows that the correct name of the subject firm should read Croscill Acquisition, LLC, currently known as Croscill Home, LLC, Plant No. 8. Some workers separated from employment at Croscill Acquisition, LLC had their wages reported under a separate unemployment insurance (UI) tax account under the name Croscill Acquisition, LLC currently known as Croscill Home, LLC.

Accordingly, the Department is amending this certification to properly reflect this matter.

The intent of the Department's certification is to include all workers of the subject firm who were adversely affected by the acquisition of warehousing and distribution services from China, Turkey and India.

The amended notice applicable to TA-W-70,044 is hereby issued as follows:

All workers of Croscill Acquisition, LLC, currently known as Croscill Home, LLC, Plant No. 8, Oxford, North Carolina, engaged in employment related to the supply of warehousing and distribution services, who became totally or partially separated from employment on or after May 25, 2009, through August 25, 2011, and all workers in the group threatened with total or partial separation from employment on date of certification through two years from the date of certification, are eligible to apply for adjustment assistance under Chapter 2 of Title II of the Trade Act of 1974, as amended.

Signed in Washington, DC, this 4th day of January 2011.
Del Min Amy Chen,
Certifying Officer, Office of Trade Adjustment Assistance.

[FR Doc. 2011-741 Filed 1-13-11; 8:45 am]

BILLING CODE 4510-FN-P